DEPARTMENT OF LABOR

Employment and Training Administration

[TA-W-54,288]

Hedstrom Corp., Ball, Bounce and Sport Division, Plant #1, Ashland, OH; Dismissal of Application for Reconsideration

Pursuant to 29 CFR 90.18(C) an application for administrative reconsideration was filed with the Director of the Division of Trade Adjustment Assistance for workers at Hedstrom Corporation, Ball, Bounce and Sport Division, Plant 1, Ashland, Ohio. The application contained no new substantial information which would bear importantly on the Department's determination. Therefore, dismissal of the application was issued.

TA-W-54,288; Hedstrom Corporation, Ball, Bounce and Sport Division, Plant #1, Ashland, Ohio (May 27, 2004).

Signed at Washington, DC, this 27th day of May, 2004.
Timothy Sullivan,
Director, Division of Trade Adjustment Assistance.

[FR Doc. 04-12869 Filed 6-7-04; 8:45 am]

BILLING CODE 4510-30-P